DEPARTMENT OF HEALTH AND HUMAN SERVICES

Health Care Financing Administration

[HCFA-1138-N]

Medicare Program; Town Hall Meeting To Discuss the Documentation Guidelines for Evaluation and Management Services—June 22, 2000

AGENCY: Health Care Financing Administration (HCFA), HHS.

ACTION: Notice of meeting.

SUMMARY: This notice announces a town hall meeting to discuss the current status of our work on revising the documentation guidelines for evaluation and management (E/M) services. The documentation guidelines provide the health care community with information regarding the proper use of E/M Current Procedural Terminology (CPT) codes. This meeting will present the results of our efforts to simplify the guidelines, reduce the burden on physicians, and foster consistent and fair medical review.

Since receiving recommendations for revising the existing guidelines from the American Medical Association (AMA) CPT Editorial Panel in June 1999, we have performed a technical assessment of those recommendations, reviewed other proposals for revising the guidelines, and started to plan a study of proposed revisions to the documentation guidelines. The purpose of this meeting is to inform the public about the current status of these activities and to reaffirm our commitment to work with physicians to improve the service they receive from the Medicare program. The meeting is open to the public, but attendance is limited to the space available.

DATES: The Meeting: June 22, 2000 from 9 a.m. until 1 p.m., E.D.T.

Registration: Persons wishing to attend the meeting must register by June 21, 2000.

Special Accommodations: Persons attending the meeting who are hearing impaired and require sign language interpretation, or have a condition that requires other special assistance or accommodations, should notify Ms. Martha Dixon by June 14, 2000.

ADDRESSES: The meeting will be held in the auditorium of the Health Care Financing Administration, 7500 Security Boulevard, Baltimore, Maryland 21244.

FOR FURTHER INFORMATION CONTACT: Dr. Bernice Harper, (202) 690-7899, for general questions about the meeting. Ms. Martha Dixon, (202) 358-1420, for questions regarding registration or special accommodations.

SUPPLEMENTARY INFORMATION:

Intent of the Meeting

The intent of this meeting is to provide an update to the public on documentation guidelines for evaluation and management services Current Procedural Terminology (CPT) codes. Although there will be a question and answer period, there will be no time scheduled for public presentations by the attendees.

Agenda Topics

The following topics will be addressed by members of our staff at the meeting:

• The history and current status of the documentation guidelines.

• Our technical assessment of the June 1999 proposed AMA recommendations.

• Other proposals for revising the guidelines.

• The proposed study.

• The role of organized medicine and practicing physicians in commenting on the guidelines and the study.

• A proposed time line for eventual implementation of new documentation guidelines.

• New efforts to improve responsiveness and service to physicians.

Registration

If you wish to attend the meeting, you must register in advance by sending a fax to the attention of Ms. Martha Dixon, Office of Professional Relations, at (202) 401-7438 by the date listed in the DATES section of this notice. Your fax must include your name, organization, address, telephone number, and fax number. Our receipt of your fax will constitute confirmation of your registration. If space at the meeting is no longer available when your fax is received, you will be notified by phone that you are on an attendance waiting list. If space should subsequently become available, individuals on the waiting list will be notified in turn. Written materials will be provided at the time of the meeting.

Authority: Section 1102 of the Social Security Act (42 U.S.C. 1302).

(Catalog of Federal Domestic Assistance Program No. 93.774, Medicare—Supplementary Medical Insurance Program)
Dated: June 1, 2000.
Nancy-Ann Min DeParle,
Administrator, Health Care Financing Administration.

[FR Doc. 00-14163 Filed 6-5-00; 8:45 am]

BILLING CODE 4120-01-M